DEPARTMENT OF COMMERCE

National Oceanic and Atmospheric Administration

[RTID 0648-XD660]

Mid-Atlantic Fishery Management Council (MAFMC); Public Meeting

AGENCY: National Marine Fisheries Service (NMFS), National Oceanic and Atmospheric Administration (NOAA), Commerce.

ACTION: Notice; public meeting.

SUMMARY: The Mid-Atlantic and New England Fishery Management Councils (Councils) will hold a public meeting of their joint Northeast Trawl Advisory Panel.

DATES: The meeting will be held on Thursday, February 8, 2024, from 9 a.m. to 5 p.m., EDT. For agenda details, see SUPPLEMENTARY INFORMATION.

ADDRESSES: This meeting will be conducted in person with a virtual option available.

Meeting address: The meeting will be held at the Westin Arlington Gateway, 801 North Glebe Road, Arlington, VA 22203; telephone: (703) 717-6200. Webinar registration details will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Councils' Northeast Trawl Advisory Panel will meet to review recent developments related to relevant fishery surveys, the Industry Based Multispecies Bottom Trawl Survey white paper, and Henry B. Bigelow bottom trawl survey contingency plan next steps. The Northeast Trawl Advisory Panel will also discuss topics related to survey redesign and mitigation, receive an update on the restrictor rope research manuscript and discuss potential expansion of that work, as well as brainstorm future research projects.

Special Accommodations

The meeting is physically accessible to people with disabilities. Requests for sign language interpretation or other auxiliary aids should be directed to Shelley Spedden, (302) 526-5251 at least 5 days prior to the meeting date.

Authority: 16 U.S.C. 1801 et seq.

Dated: January 18, 2024.
Rey Israel Marquez,
Acting Deputy Director, Office of Sustainable Fisheries, National Marine Fisheries Service.

[FR Doc. 2024-01250 Filed 1-22-24; 8:45 am]

BILLING CODE 3510-22-P